DEPARTMENT OF THE TREASURY

Customs Service

[T.D. 02-21]

Duty-Free Treatment of Articles Imported in Connection With the 2002 World Basketball Championship for Men

AGENCY: Customs Service, Department of the Treasury.

ACTION: Notice of designation of international athletic event for purposes of preferential tariff provision.

SUMMARY: This notice advises the public of the designation of the 2002 World Basketball Championship for Men to be held in Indianapolis, Indiana, August 29, 2002, through September 8, 2002, as a qualifying international athletic event under subheading 9817.60.00, Harmonized Tariff Schedule of the United States (HTSUS).

EFFECTIVE DATE: May 6, 2002.

FOR FURTHER INFORMATION CONTACT: T. James Min II, Office of Regulations & Rulings (202-927-1203).

SUPPLEMENTARY INFORMATION:

Background

Section 1456 of the Tariff Suspension and Trade Act of 2000 (the “Act”) (Pub. L. 106-476, 114 Stat. 2101) promulgated the duty-free treatment provided under subheading 9817.60.00, HTSUS, for certain articles brought into the United States for certain international athletic events. Subheading 9817.60.00, HTSUS, which implements section 1456(a) of the Act, states:

Any of the following articles not intended for sale or distribution to the public: personal effects of aliens who are participants in, officials of, or accredited members of delegations to, an international athletic event held in the United States, such as the Olympics and Paralympics, the Goodwill Games, the Special Olympics World Games, the World Cup Soccer Games, or any similar international athletic event as the Secretary of the Treasury may determine, and of persons who are immediate family members of or servants to any of the foregoing persons; equipment and materials imported in connection with any such foregoing event by or on behalf of the foregoing persons or the organizing committee of such an event, articles to be used in exhibitions depicting the culture of a country participating in such an event; and, if consistent with the foregoing, such other articles as the Secretary of the Treasury may allow.

Section 1456(b) of the Act, as implemented in Note 6 of Subchapter XII, HTSUS, provides that “[a]ny article exempt from duty under heading 9817.60.00 shall be free of taxes and fees that may otherwise be applicable, but shall not be free or otherwise exempt or excluded from routine or other inspections as may be required by the Customs Service.”

The 2002 World Basketball Championship for Men will be held in Indianapolis, Indiana, from August 29, 2002, through September 8, 2002. This event is sponsored by the Fédération Internationale de Basketball (FIBA), which is basketball's international governing body. USA Basketball and the Indianapolis Sports Corporation also will sponsor the event, which features 16 national men's teams from five continents. These teams will be from the United States, Angola, Algeria, Argentina, Brazil, Canada, Puerto Rico, Venezuela, China, Lebanon, Yugoslavia, Turkey, Spain, Germany, Russia, and New Zealand. A total of 62 games will be played over the 11-day event.

The Managing Director of the 2002 World Basketball Championship for Men has requested that the event be designated as a qualifying international athletic event for purposes of subheading 9817.60.00, HTSUS.

Determination

Section 1456 of the Tariff Suspension and Trade Act of 2000 provides that the Secretary of the Treasury may determine that international athletic events not explicitly mentioned in the statute qualify as similar to those mentioned for purposes of the duty-free treatment provided for in subheading 9817.60.00, HTSUS.

Noting that the 2002 World Basketball Championship for Men is organized by FIBA, the international governing body for basketball, and that the event includes finalists from over five continents, it is therefore determined that the event qualifies as a “similar international athletic event” in accordance with section 1456 of the Tariff Suspension and Trade Act of 2000. Therefore, articles meeting the conditions and requirements set forth in subheading 9817.60.00, HTSUS, imported in connection with the 2002 World Basketball Championship for Men, will be entitled to duty-free treatment.

Robert C. Bonner,
Commissioner of Customs.
Approved: April 30, 2002.
Timothy E. Skud,
Deputy Assistant Secretary of the Treasury.

[FR Doc. 02-11131 Filed 5-3-02; 8:45 am]

BILLING CODE 4820-02-P